LEGAL SERVICES CORPORATION

Sunshine Act Meeting

TIME AND DATE: The Finance and the Governance and Performance Review Committees of the Legal Services Corporation Board of Directors will meet virtually on June 24, 2024 and June 27, 2024 respectively. The Finance Committee meeting will begin at 2:00 p.m. EDT, and will continue until the conclusion of the Committee's agenda. The Governance and Performance Review Committee meeting will begin at 2:30 p.m. EDT, and will continue until the conclusion of the Committee's agenda.

PLACE:

Public Notice of Virtual Meeting: LSC will conduct the June 24, 2024 and June 27, 2024 meetings via Zoom.

Public Observation: Unless otherwise noted herein, the Finance and the Governance and Performance Review Committees meeting will be open to public observation via Zoom. Members of the public who wish to participate remotely in the public proceedings may do so by following the directions provided below.

Directions for Open Sessions

Monday, June 24, 2024

To join the Zoom meeting by computer, please use this link.

• https://lsc-gov.zoom.us/j/81631211021?pwd=ZvUaqpAvtldvp7W39HhiLTqY7S4Oxm.1&from=addon

Meeting ID: 816 3121 1021

○ Passcode: 62424

• To join the Zoom meeting with one tap from your mobile phone, please click dial:

○ +13017158592,,88527065662# US (Washington DC)

○ +16468769923,,88527065662# US (New York)

• To join the Zoom meeting by telephone, please dial one of the following numbers:

○ +1 301 715 8592 US (Washington, DC)

○ +1 646 876 9923 US (New York)

○ +1 312 626 6799 US (Chicago)

○ +1 346 248 7799 US (Houston)

○ +1 408 638 0968 US (San Jose)

○ +1 669 900 6833 US (San Jose)

○ +1 253 215 8782 US (Tacoma)

○ ID: 816 3121 1021

○ Passcode: 62424

Thursday, June 27, 2024

To join the Zoom meeting by computer, please use this link.

• https://lsc-gov.zoom.us/j/89793757434?pwd=T5LxXApetLPuRNNjqXUqFRd2nvcRu8.1&from=addon

Meeting ID: 897 9375 7434

○ Passcode: 62724

• To join the Zoom meeting with one tap from your mobile phone, please click dial:

○ +13017158592,,88527065662# US (Washington DC)

○ +16468769923,,88527065662# US (New York)

• To join the Zoom meeting by telephone, please dial one of the following numbers:

○ +1 301 715 8592 US (Washington, DC)

○ +1 646 876 9923 US (New York)

○ +1 312 626 6799 US (Chicago)

○ +1 346 248 7799 US (Houston)

○ +1 408 638 0968 US (San Jose)

○ +1 669 900 6833 US (San Jose)

○ +1 253 215 8782 US (Tacoma)

○ ID: 897 9375 7434

○ Passcode: 62724

Once connected to Zoom, please immediately mute your computer or telephone. Members of the public are asked to keep their computers or telephones muted to eliminate background noise. To avoid disrupting the meetings, please refrain from placing the call on hold if doing so will trigger recorded music or other sound.

From time to time, the Finance or the Governance and Performance Review Chairs may solicit comments from the public. To participate in the meeting during public comment, use the `raise your hand' or `chat' functions in Zoom and wait to be recognized by the Chair before stating your questions and/or comments.

MATTERS TO BE CONSIDERED:

Meeting Schedule

Monday, June 24, 2024

Start Time: 2:00 p.m. EDT

Finance Committee

Open to the Public

1. Approval of Meeting Agenda

2. Discussion with LSC Leadership Regarding Recommendations for the Organization's Fiscal Year 2026 Budget Request

3. Discussion with Leadership from the Office of Inspector General (OIG) for the Legal Services Corporation Regarding OIG's Fiscal Year 2026 Budget Request

4. Public Comment

5. Consider and Act on Other Business

6. Consider and Act on Adjournment of Meeting

Thursday, June 27, 2024

Start Time: 2:30 p.m. EDT

Governance & Performance Review Committee

Open to the Public

1. Approval of Agenda

2. Approval of Minutes of the Committee's Open and Closed Session Meeting on March 26, 2024

3. Report on U.S. Department of Justice's Access to Justice Office and White House Legal Aid Interagency Roundtable (LAIR)

4. Public Comment

5. Consider and Act on Other Business

6. Consider and Act on Motion to Adjourn the Committee Meeting

CONTACT PERSON FOR MORE INFORMATION: Cheryl DuHart, Administrative Coordinator, at (202) 295-1621. Questions may also be sent by electronic mail to duhartc@lsc.gov.

Non-Confidential Meeting Materials: Non-confidential meeting materials will be made available in electronic format at least 24 hours in advance of the meeting on the LSC website, at https://www.lsc.gov/about-lsc/board-meeting-materials.

(Authority: 5 U.S.C. 552b)

Dated: June 12, 2024.
Stefanie Davis,
Deputy General Counsel, Legal Services Corporation.

[FR Doc. 2024-13335 Filed 6-13-24; 11:15 am]

BILLING CODE 7050-01-P